NATIONAL TRANSPORTATION SAFETY BOARD

Rupture of Piney Point Oil Pipeline

Time and Place: 9:30 a.m, Tuesday, July 23, 2002.

Place: NTSB Conference Center, 429 L'Enfant Plaza, SW., Washington, DC 20594.

Status: The two items are open to the public.

Matters to Be Considered:

7285A Pipeline Accident Report—Rupture of Piney Point Oil Pipeline and Release of Fuel Oil near Chalk Point, Maryland, April 7, 2000.

7480 Highway Accident Report—Collision Between Amtrak Train 97 and Molnar Worldwide Heavy Haul Company Tractor-Trailer Combination Vehicle at Highway-Rail Grade Crossing in Intercession City, Florida, on November 17, 2000.

News Media Contact: Telephone: (202) 314-6100. Individuals requesting specific accommodations should contact Ms. Carolyn Dargan at (202) 314-6305 by Friday, July 19, 2002.

For Further Information Contact: Vicky D'Onofrio, (202) 314-6410.

Dated: July 12, 2002.
Vicky D'Onofrio,
Federal Register Liaison Officer.

[FR Doc. 02-18045 Filed 7-17-02; 8:45 am]

BILLING CODE 7533-01-M